DEPARTMENT OF HOMELAND SECURITY

[Docket No. DHS-2016-0019]

Agency Information Collection Activities: Submission for Review; Information Collection Request for the Department of Homeland Security Science & Technology Technology Acceptance and Evaluation Survey

AGENCY: Science and Technology Directorate, DHS.

ACTION: 30-Day notice and request for comment.

SUMMARY: The Department of Homeland Security (DHS) invites the general public to comment on the data collection form for the DHS Science & Technology Directorate (S&T) Technology Acceptance and Evaluation (TAE) Survey. The TAE web based tool proposes to collect information from 1,200 members of an online Internet panel. All information collected will be on a voluntary basis. DHS will not receive any personally identifying information. As part of its core mission, DHS is tasked with preventing terrorism and enhancing security, securing and managing our borders, and ensuring resilience to disasters. In order to assist in those key mission spaces, the S&T managed work to create a Rapid DNA Technology that allows field testing of DNA that is inexpensive and quick while performing with high accuracy in a non-laboratory setting. To ensure the effective implementation and diffusion of this new technology, DHS S&T seeks to better understand public perceptions of Rapid DNA, its use cases, and its collection through the TAE Survey. This notice and request for comments is required by the Paperwork Reduction Act of 1995 (Pub. L. 104-13, 44 U.S.C. chapter 35).

DATES: Comments are encouraged and will be accepted until June 3, 2016.

ADDRESSES: Interested persons are invited to submit comments, identified by docket number DHS-2016-0019, by one of the following methods:

• Federal eRulemaking Portal: http://www.regulations.gov. Please follow the instructions for submitting comments.

• Email: Kathleen.Deloughery@hq.dhs.gov. Please include docket number DHS-2016-0019 in the subject line of the message.

• Fax: (202) 254-6911. (Not a toll-free number).

• Mail: Science and Technology Directorate, ATTN: Kathleen Deloughery 6-055, 245 Murray Lane, Mail Stop 0210, Washington, DC 20528-0210.

FOR FURTHER INFORMATION CONTACT: DHS FRCoP Contact Kathleen Deloughery (202) 254-6189 (Not a toll free number).

SUPPLEMENTARY INFORMATION: The Department is committed to improving its information collection and urges all interested parties to suggest how these materials can further reduce burden while seeking necessary information under the Act.

DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the collection of information on those who are to respond, including through the use of appropriate automated, electronic, mechanical, or other technological collection techniques or other forms of information technology, e.g., permitting electronic submissions of responses.

Overview of This Information Collection

(1) Type of Information Collection: New Collection.

(2) Title of the Form/Collection: Technology Acceptance and Evaluation Survey.

(3) Agency Form Number, if any, and the applicable component of the Department of Homeland Security sponsoring the collection: DHS S&T, First Responders Group.

(4) Affected public who will be asked or required to respond, as well as a brief abstract: Individuals; the data will be gathered from individual who wish to participate in the online survey.

(5) An estimate of the total number of respondents and the amount of time estimated for an average respondent to respond:

a. Estimate of the total number of respondents: 1,200.

b. An estimate of the time for an average respondent to respond: 0.5 burden hours.

c. An estimate of the total public burden (in hours) associated with the collection: 600 burden hours.

Dated: April 12, 2016.
Rick Stevens,
Chief Information Officer, Science and Technology Directorate.

[FR Doc. 2016-10352 Filed 5-3-16; 8:45 am]

BILLING CODE 9110-9F-P